INTERNATIONAL TRADE COMMISSION

[Investigation No. TA-201-076 (Extension)]

Large Residential Washers: Extension of Action

Determination

On the basis of the information in this investigation, the United States International Trade Commission (“Commission”) determines, pursuant to section 204(c) of the Trade Act of 1974 (“the Act”) (19 U.S.C. 2254(c)), that action under section 203 of the Act with respect to imports of large residential washers continues to be necessary to prevent or remedy serious injury and that there is evidence that the domestic large residential washers industry is making a positive adjustment to import competition.

Background

Following receipt of a petition filed on behalf of Whirlpool Corporation, Benton Harbor, Michigan, the Commission, effective August 3, 2020, instituted Investigation No. TA-201-076 (Extension) under section 204(c) of the Act to determine whether the action taken by the President under section 203 of the Act with respect to large residential washers and covered parts, provided for in subheadings 8450.20.00, 8450.11.00, 8450.90.60, and 8450.90.20 of the Harmonized Tariff Schedule of the United States (HTS), continues to be necessary to prevent or remedy serious injury and whether there is evidence that the domestic industry is making a positive adjustment to import competition.

Notice of the institution of the Commission's investigation and of a public hearing to be held in connection therewith was given by posting copies of the notice in the Office of the Secretary, U.S. International Trade Commission, Washington, DC, and by publishing notice in the Federal Register on August 12, 2020 (85 FR 48724). In light of the restrictions on access to the Commission building due to the COVID-19 pandemic, the Commission conducted its hearing by video conference on November 5, 2020. All persons who requested the opportunity were permitted to participate.

The Commission transmitted its determination in this investigation to the President on December 8, 2020. The views of the Commission are contained in USITC Publication 5144 (December 2020), entitled Large Residential Washers: Extension of Action, Investigation No. TA-201-076 (Extension).

By order of the Commission.
Issued: December 8, 2020.
Lisa Barton,
Secretary to the Commission.

[FR Doc. 2020-27380 Filed 12-11-20; 8:45 am]

BILLING CODE P